DEPARTMENT OF THE INTERIOR

Bureau of Reclamation

[RR04310000, XXXR0680G1, RA202240000019200]

Notice of Availability and Notice of Public Meetings for the Draft Environmental Impact Statement for the Pojoaque Basin Regional Water System, Santa Fe County, New Mexico

AGENCY: Bureau of Reclamation, Interior.

ACTION: Notice of availability.

SUMMARY: The Bureau of Reclamation has made available for public review and comment the Draft Environmental Impact Statement (DEIS) for the Pojoaque Basin Regional Water System. The DEIS analyzes the potential environmental impacts of five alternatives in planning, designing, and constructing the regional water system and alternatives for the connected actions in the Pojoaque Basin in north-central New Mexico, as authorized by the Aamodt Litigation Settlement Act (Title VI of the Claims Resolution Act of 2010; Pub. L. 111-291, Title VI; 124 Stat. 3065).

DATES: Written comments on the DEIS should be submitted on or before Monday, February 27, 2017. Four public meetings to provide information and receive oral or written comments will be held on:

1. Wednesday, February 15, 2017, 6:00 p.m. to 8:00 p.m., Santa Fe, New Mexico.

2. Thursday, February 16, 2017, 6:00 p.m. to 8:00 p.m., Tesuque, New Mexico.

3. Tuesday, February 21, 2017, 6:00 p.m. to 8:00 p.m., Nambé, New Mexico.

4. Wednesday, February 22, 2017, 6:00 p.m. to 8:00 p.m., Santa Fe, New Mexico.

ADDRESSES: Send written comments or requests for copies of the DEIS to Mr. Larry Moore, Environmental Protection Specialist, Bureau of Reclamation, Albuquerque Area Office, 555 Broadway NE., Suite 100, Albuquerque, New Mexico 87102; or via email to pojoaquebasineis@usbr.gov.

Public meetings will be held at the following locations:

1. Santa Fe—Pojoaque Valley High School, 1574 NM-502, Santa Fe, New Mexico 87506.

2. Tesuque—Tesuque Valley Elementary School, 1555 Bishops Lodge Road, Tesuque, New Mexico 87574.

3. Nambé—Nambe Community Center, 180A State Road 503, Nambé, New Mexico 87506.

4. Santa Fe—Santa Fe Community College, 6401 Richards Avenue, Santa Fe, New Mexico 87508.

Electronic copies of the DEIS may be viewed at the Bureau of Reclamation's Web site at http://www.usbr.gov/uc/envdocs/eis.html, or the Pojoaque Basin Regional Water System project Web site at www.pojoaquebasineis.com. Please see the SUPPLEMENTARY INFORMATION section for specific locations where the DEIS is available for public review and inspection.

FOR FURTHER INFORMATION CONTACT: Mr. Larry Moore, Environmental Protection Specialist, Bureau of Reclamation, lemoore@usbr.gov, (505) 462-3702.

SUPPLEMENTARY INFORMATION: The Bureau of Reclamation (Reclamation) prepared this DEIS in cooperation with the U.S. Bureau of Indian Affairs, U.S. Indian Health Service, U.S. Army Corps of Engineers, U.S. Fish and Wildlife Service, Pueblo de San Ildefonso, Pueblo of Nambé, Pueblo of Pojoaque, Pueblo of Tesuque, New Mexico Department of Transportation, Santa Fe County, and the City of Santa Fe.

Background

The Pojoaque Basin Regional Water System (RWS) is described in and authorized by the Aamodt Litigation Settlement Act (Settlement Act). The Settlement Act authorizes and ratifies the Aamodt Litigation Settlement Agreement (Settlement Agreement), dated January 19, 2006, as conformed to the Settlement Act and amendments. The settlement parties are the United States; the State of New Mexico; Santa Fe County; City of Santa Fe; Pueblo de San Ildefonso, Pueblo of Nambé, Pueblo of Pojoaque, Pueblo of Tesuque (Settlement Pueblos); and other individuals. The Settlement Agreement resolves the water rights claims of the Settlement Pueblos.

Among other provisions, the RWS and 2,220 acre-feet per year of new water supply to the basin are included in the Settlement Agreement in exchange for the Pueblos agreeing to reduce their claims to water within the basin and to limit their priority calls against existing non-Pueblo water users. The Settlement Agreement also addresses funding for other water-related projects on the Settlement Pueblos.

Proposed Federal Action

The proposed federal action is to plan, design, and construct a regional water system in accordance with the Settlement Agreement, consisting of water diversion from the Rio Grande and water treatment facilities on the Pueblo de San Ildefonso, along with storage tanks, transmission and distribution pipelines, and well fields that are necessary to supply up to 4,000 acre-feet of water annually to customers in the Pojoaque Basin.

Purpose and Need for the Proposed Federal Action

The purpose of Reclamation's proposed action is to reliably provide a firm, safe supply of treated drinking water for distribution in the Pojoaque Basin, in compliance with the Settlement Act. The need for Reclamation's action is to reduce reliance on groundwater in the Pojoaque Basin and to allow the Settlement Pueblos to receive a portion of the water provided under the Settlement Act. Reclamation's action would also enable the Settlement Pueblos to use funding made available in the Settlement Act for certain water-related infrastructure improvements, if requested. This funding can be requested prior to substantial completion of the RWS and used for water-related improvements that would be more cost effective when implemented in conjunction with RWS construction if approved by the Secretary (Settlement Act, Section 615[d][7][A][ii]).

The DEIS Analyzes Five Alternatives

The DEIS assesses the potential environmental effects of five alternatives. These include the No Action Alternative (Alternative A), and four action alternatives (Alternatives B, C, D, and E) that vary in six main components or project elements:

1. Firm, reliable water supply.

2. Primary source water collection.

3. Water treatment.

4. Short-term storage.

5. Water transmission and distribution system, including pipelines, pumping plants, forebay tanks, and other associated facilities.

6. Electrical power service

Alternative A: The No Action Alternative

The No Action Alternative is the “no build” alternative. Under this alternative, the RWS would not be constructed, the Settlement Agreement would be nullified, and Aamodt litigation over water rights claims would likely resume. A firm, reliable water supply would not be provided to residents of the Pojoaque Basin. Under the No Action Alternative, the benefits of the proposed RWS would not be realized. Use of domestic wells would continue to reduce groundwater and surface water supplies in the Pojoaque Basin. The Pueblos would continue to rely on their existing separate water systems, rather than integrating their systems into one regional system.

Alternative B

Alternative B incorporates the RWS facilities and components described in a 2008 Engineering Report prepared by HKM Engineering, Inc., as updated through surveys and public input. The HKM Engineering Report served as the preliminary RWS concept for the Settlement Act. Under this alternative, the RWS would consist of these components:

1. The firm, reliable water supply would be provided by diverting surface flows from the Rio Grande, supplemented by operational planning and scheduling of San Juan-Chama Project water supplies, as well as one of the following three backup aquifer storage and recovery water supply options:

• Three deep injection and recovery wells for injecting raw or treated surface water into an aquifer and recovering it for use in the RWS; or

• Three shallow injection and recovery wells for injecting raw or treated surface water into an aquifer and recovering it for use in the RWS; or

• Three shallow passive infiltration reaches and recovery wells for infiltrating raw surface water into an aquifer and recovering it for use in the RWS.

2. A side-channel surface diversion structure and pumping plant with a sediment removal and return system on the east bank of the Rio Grande on Pueblo de San Ildefonso lands, just north of the Otowi Bridge.

3. A water treatment plant and pumping plant on the Pueblo de San Ildefonso on the south side of State Highway 502, approximately 0.75 mile east of the Otowi Bridge.

4. Eleven new short-term storage tanks in addition to 13 existing storage tanks.

5. A water transmission and distribution system including approximately 194 miles of pipelines, seven pumping plants, and pressure-reducing and flow-control valves.

6. Approximately 14.7 miles of new electrical distribution lines.

Alternative C

Under this alternative, the RWS would consist of the following major components:

1. The firm, reliable water supply would be provided by collecting flows from the hyporheic zone of the Rio Grande, supplemented by operational planning and scheduling of San Juan-Chama Project water supplies.

2. A parallel river interceptor drain in the alluvium, below the water table in the bosque and on the east side of the Rio Grande north of the Otowi Bridge.

3. A water treatment plant on the eastern portion of the Pueblo de San Ildefonso, on the east side of County Road 101D, near the El Rancho power substation.

4. Eleven new short-term storage tanks in addition to 13 existing storage tanks.

5. A water transmission and distribution system including approximately 188.9 miles of pipelines, one surge tank, six pumping plants, and pressure-reducing and flow-control valves.

6. Approximately 7 miles of new electrical distribution lines supplemented by distributed solar generation.

Alternative D

Under Alternative D, the RWS would consist of the following major components:

1. The firm, reliable water supply would be provided by collecting flows from the scheduling of San Juan-Chama Project water supplies.

2. An infiltration gallery (an estimated 180 horizontal drains to collect groundwater) on the east bank to the Rio Grande.

3. A water treatment plant on the eastern portion of the Pueblo de San Ildefonso, on the east side of County Road 101D, near the El Rancho power substation.

4. Sixteen new short-term storage tanks in addition to 13 existing tanks.

5. A water transmission and distribution system, including approximately 188.1 miles of pipelines, one surge tank, six pumping plants, and pressure-reducing and flow-control valves.

6. Approximately 6.4 miles of new electrical distribution lines, supplemented by distributed solar generation.

Alternative E: Preferred Alternative

Under this alternative, the RWS would consist of the following major components:

1. The firm, reliable water supply would be provided by collecting flows from the hyporheic zone of the Rio Grande and supplementing it with operational planning and scheduling of San Juan-Chama Project water supplies, as well as a combination of new and existing conjunctive use wells to allow water to be withdrawn when sufficient supply may not be available from the subsurface water source.

2. Four horizontal radial well collectors on the east bank of the Rio Grande, on the Pueblo de San Ildefonso, north of the Otowi Bridge.

3. A water treatment plant located on the west side of County Road 101D, north of State Highway 502.

4. Nine new short-term storage tanks, in addition to 15 existing storage tanks.

5. A water transmission and distribution system, including approximately 165.5 miles of pipelines, 6 pumping plants, and pressure-reducing and flow-control valves.

6. Approximately 6.5 miles of new overhead and buried electrical distribution lines, supplemented by distributed solar generation.

Connected Actions

The DEIS also includes analyses of three connected actions: (1) The Rio Pojoaque irrigation improvement project, (2) the Pueblo de San Ildefonso future project which consists of a wastewater system and water distribution infrastructure, and (3) the Rio Tesuque channel modification project. Each of the connected actions have been analyzed in the DEIS to the extent that the details of the projects have been developed.

Public Review and Where To Find Copies of the DEIS

The DEIS may be viewed at the Reclamation's Web site at http://www.usbr.gov/uc/envdocs/eis.html or the RWS project Web site at www.pojoaquebasineis.com. Copies of the DEIS are available for public review and inspection at the following locations:

1. Bureau of Reclamation, Albuquerque Area Office, 555 Broadway NE., Suite 100, Albuquerque, New Mexico 87102.

2. Natural Resources Library, U.S. Department of the Interior, 1849 C Street NW., Main Interior Building, Washington, DC 20240-0001.

3. Santa Fe County Pojoaque Satellite Office, 5 West Gutierrez, Suite 9, Pojoaque, New Mexico 87506 (in the Pojoaque Pueblo Plaza).

Special Assistance for Public Meetings

If special assistance is required at the public meetings, please contact Ms. Mary Carlson at (505) 462-3576, or via email at mcarlson@usbr.gov. Please contact Ms. Carlson at least 10 working days prior to the meetings. A telephone device for the hearing impaired is available at (800) 877-8339.

Public Disclosure

Before including your address, phone number, email address, or other personal identifying information in your comment, you should be aware that your entire comment—including your personal identifying information—may be made publicly available at any time. While you may ask us in your comment to withhold your personal identifying information from public review, we cannot guarantee that we will be able to do so.

Dated: December 21, 2016.
Thomas M. Iseman,
Principal Deputy Assistant Secretary-Water and Science.

[FR Doc. 2016-31736 Filed 1-5-17; 8:45 am]

BILLING CODE 4332-90-P